DEPARTMENT OF LABOR

Employment and Training Administration

[TA-W-65,089]

Brunswick Corporation, Crestliner Division, Little Falls, MN; Notice of Termination of Investigation

Pursuant to Section 221 of the Trade Act of 1974, as amended, an investigation was initiated on February 3, 2009 in response to a petition filed by a Minnesota state agency representative on behalf of workers at Brunswick Corporation, Crestliner Division, Little Falls, Minnesota. The workers at the subject facility produce aluminum boats.

The petitioner has requested that the petition be withdrawn. Consequently, the investigation has been terminated.

Signed in Washington, DC, this 15th day of April 2009.
Richard Church,
Certifying Officer, Division of Trade Adjustment Assistance.

[FR Doc. E9-10867 Filed 5-8-09; 8:45 am]

BILLING CODE 4510-FN-P